SMALL BUSINESS ADMINISTRATION

13 CFR Part 121

RIN 3245-AF11

Small Business Size Standards; Restructuring of Size Standards

AGENCY: Small Business Administration (SBA).

ACTION: Proposed rule; withdrawal.

SUMMARY: SBA is hereby withdrawing its March 19, 2004, proposed rule to restructure small business size standards. SBA intends to issue an Advance Notice of Proposed Rulemaking to obtain more data before deciding what further actions to take to restructure small business size standards.

DATES: This proposed rule is withdrawn as of July 1, 2004.

FOR FURTHER INFORMATION CONTACT: Gary M. Jackson, Assistant Administrator for Size Standards, (202) 205-6464 or gary.jackson@sba.gov.

SUPPLEMENTARY INFORMATION: On March 19, 2004, SBA published a proposed rule (69 FR 13130) to restructure its small business size standards. The rule proposed to simplify size standards by establishing number of employees as a common standard for all industries and by reducing the number of individual size standard levels from 37 to 10. The current 37 standards are based either on monetary amounts or on number of employees. The proposed rule also included several other revisions to simplify the size standards and provided a 60-day public comment period closing on May 18, 2004. Because of the significant level of interest generated by the proposed rule, on May 17, 2004, SBA published a notice extending the comment period to July 2, 2004 (69 FR 27865).

To date, SBA has received well over 3,700 public comments. SBA intends to issue an Advance Notice of Proposed Rulemaking (ANPRM) to collect additional information to review the issues raised by the comments on the proposed rule. Although many of those comments support aspects of the proposal, a number have raised concerns about SBA's methodology for developing the proposed size standards, the impact the proposed size standards will have on existing small businesses, the determination of the employee size of a business, and SBA's proposed overall approach to simplifying the size standards. Further review of these issues may result in substantive changes from the proposal. By withdrawing the March 19, 2004, proposed rule, SBA commits to issue a new proposed rule prior to final rulemaking, ensuring that the public has sufficient notice and opportunity to comment on such changes.

Therefore, by this notice, SBA is withdrawing the March 19, 2004, proposed rule. Once SBA completes its review of the comments received in response to March 19, 2004, proposed rule and the comments it may receive in response to the planned ANPRM, it will decide what further actions are necessary and issue any appropriate notices of proposed rulemaking.

Hector V. Barreto,
Administrator.

[FR Doc. 04-15080 Filed 6-30-04; 8:45 am]

BILLING CODE 8025-01-P